DEPARTMENT OF ENERGY

Federal Energy Regulatory Commission

Combined Notice of Filings #1

Take notice that the Commission received the following electric rate filings:

Docket Numbers: ER10-2566-010; ER19-1819-001; ER18-1343-005; ER19-1821-001; ER19-1820-001; ER13-2322-006; ER15-190-012.

Applicants: Duke Energy Carolinas, LLC, Broad River Solar, LLC, Carolina Solar Power, LLC, Speedway Solar, LLC, Stony Knoll Solar, LLC, Duke Energy Progress, LLC, Duke Energy Renewable Services, LLC.

Description: Amendment to January 27, 2020 Notice of Change in Status of the Duke MBR Sellers.

Filed Date: 5/21/20.

Accession Number: 20200521-5203.

Comments Due: 5 p.m. ET 10/5/20.

Docket Numbers: ER20-1668-003.

Applicants: Dominion Energy South Carolina, Inc.

Description: Tariff Amendment: LGIP Modifications Deficiency Filing to be effective 11/24/2020.

Filed Date: 9/24/20.

Accession Number: 20200924-5081.

Comments Due: 5 p.m. ET 10/15/20.

Docket Numbers: ER20-1777-001.

Applicants: Jersey Central Power & Light Company.

Description: Compliance filing: Compliance Filing to 287 to be effective 9/8/2020.

Filed Date: 9/24/20.

Accession Number: 20200924-5083.

Comments Due: 5 p.m. ET 10/15/20.

Docket Numbers: ER20-2125-000.

Applicants: WGP Redwood Holdings, LLC.

Description: Second Supplement to June 22, 2020 WGP Redwood Holdings, LLC tariff filing.

Filed Date: 9/17/20.

Accession Number: 20200917-5143.

Comments Due: 5 p.m. ET 10/8/20.

Docket Numbers: ER20-2284-002.

Applicants: Southwest Power Pool, Inc.

Description: Tariff Amendment: 2900R13 KMEA NITSA; Cancellations of 1884R9, 1888R9 and 1890R9 Westar NITSAs to be effective 6/1/2020.

Filed Date: 9/24/20.

Accession Number: 20200924-5055.

Comments Due: 5 p.m. ET 10/15/20.

Docket Numbers: ER20-2503-001.

Applicants: Paulding Wind Farm IV LLC.

Description: Tariff Amendment: Deficiency Filing for Paulding Wind IV Reactive Rate Schedule to be effective 9/21/2020.

Filed Date: 9/24/20.

Accession Number: 20200924-5112.

Comments Due: 5 p.m. ET 10/15/20.

Docket Numbers: ER20-2965-000.

Applicants: PJM Interconnection, L.L.C.

Description: § 205(d) Rate Filing: First Revised ISA, SA No. 2549; Queue Nos. AC1-114/AC2-116 to be effective 8/24/2020.

Filed Date: 9/23/20.

Accession Number: 20200923-5119.

Comments Due: 5 p.m. ET 10/14/20.

Docket Numbers: ER20-2966-000.

Applicants: Bayshore Solar A, LLC.

Description: § 205(d) Rate Filing: Bayshore Solar A, LLC Amended SFA to be effective 9/24/2020.

Filed Date: 9/23/20.

Accession Number: 20200923-5126.

Comments Due: 5 p.m. ET 10/14/20.

Docket Numbers: ER20-2967-000.

Applicants: Bayshore Solar B, LLC.

Description: § 205(d) Rate Filing: Bayshore Solar B, LLC Amended SFA to be effective 9/24/2020.

Filed Date: 9/23/20.

Accession Number: 20200923-5129.

Comments Due: 5 p.m. ET 10/14/20.

Docket Numbers: ER20-2968-000.

Applicants: Bayshore Solar C, LLC.

Description: § 205(d) Rate Filing: Bayshore Solar C, LLC Amended SFA to be effective 9/24/2020.

Filed Date: 9/23/20.

Accession Number: 20200923-5130.

Comments Due: 5 p.m. ET 10/14/20.

Docket Numbers: ER20-2969-000.

Applicants: CenterPoint Energy Houston Electric, LLC.

Description: § 205(d) Rate Filing: TFO Tariff Rate Revision to Conform with PUCT-Approved Rate to be effective 9/17/2020.

Filed Date: 9/23/20.

Accession Number: 20200923-5134.

Comments Due: 5 p.m. ET 10/14/20.

Docket Numbers: ER20-2970-000.

Applicants: Big Sky North, LLC.

Description: § 205(d) Rate Filing: Shared Facilities Agreement to be effective 9/24/2020.

Filed Date: 9/23/20.

Accession Number: 20200923-5142.

Comments Due: 5 p.m. ET 10/14/20.

Docket Numbers: ER20-2971-000.

Applicants: Elevation Solar C LLC.

Description: § 205(d) Rate Filing: Elevation Solar C LLC Amended SFA to be effective 9/24/2020.

Filed Date: 9/23/20.

Accession Number: 20200923-5143.

Comments Due: 5 p.m. ET 10/14/20.

Docket Numbers: ER20-2972-000.

Applicants: Solverde 1, LLC.

Description: § 205(d) Rate Filing: Solverde 1, LLC Amended SFA to be effective 9/24/2020.

Filed Date: 9/23/20.

Accession Number: 20200923-5148.

Comments Due: 5 p.m. ET 10/14/20.

Docket Numbers: ER20-2973-000.

Applicants: New York Independent System Operator, Inc., Niagara Mohawk Power Corporation.

Description: § 205(d) Rate Filing: SGIA (SA 2554) among NYISO, National Grid and Hecate Energy Albany 1 to be effective 9/14/2020.

Filed Date: 9/24/20.

Accession Number: 20200924-5011.

Comments Due: 5 p.m. ET 10/15/20.

Docket Numbers: ER20-2974-000.

Applicants: New York Independent System Operator, Inc., Niagara Mohawk Power Corporation.

Description: § 205(d) Rate Filing: SGIA (SA 2555) among NYISO, National Grid and Hecate Energy Albany 2 to be effective 9/14/2020.

Filed Date: 9/24/20.

Accession Number: 20200924-5012.

Comments Due: 5 p.m. ET 10/15/20.

Docket Numbers: ER20-2975-000.

Applicants: Western Antelope Blue Sky Ranch B LLC.

Description: § 205(d) Rate Filing: Western Antelope Blue Sky Ranch B LLC Amended SFA to be effective 9/25/2020.

Filed Date: 9/24/20.

Accession Number: 20200924-5075.

Comments Due: 5 p.m. ET 10/15/20.

Docket Numbers: ER20-2976-000.

Applicants: PJM Interconnection, L.L.C.

Description: Tariff Cancellation: Notice of Cancellation of ISA, SA No. 4262; Queue No. X3-015 to be effective 10/10/2017.

Filed Date: 9/24/20.

Accession Number: 20200924-5082.

Comments Due: 5 p.m. ET 10/15/20.

Docket Numbers: ER20-2977-000.

Applicants: ORNI 34 LLC.

Description: Baseline eTariff Filing: MBRA Tariff to be effective 9/24/2020.

Filed Date: 9/24/20.

Accession Number: 20200924-5103.

Comments Due: 5 p.m. ET 10/15/20.

Docket Numbers: ER20-2978-000.

Applicants: Catalyst Power REPCo LLC.

Description: Baseline eTariff Filing: Catalyst Power REPCo Market-Based Rate Application to be effective 11/24/2020.

Filed Date: 9/24/20.

Accession Number: 20200924-5104.

Comments Due: 5 p.m. ET 10/15/20.

Docket Numbers: ER20-2979-000.

Applicants: Catalyst Power & Gas LLC.

Description: Baseline eTariff Filing: Catalyst Power & Gas Market-Based Rate Application to be effective 9/24/2020.

Filed Date: 9/24/20.

Accession Number: 20200924-5106.

Comments Due: 5 p.m. ET 10/15/20.

Docket Numbers: ER20-2980-000.

Applicants: Midcontinent Independent System Operator, Inc.

Description: § 205(d) Rate Filing: 2020-09-24_SA 3528 Certificate of Concurrence Union Electric (Ameren)-Evergy IA to be effective 8/30/2020.

Filed Date: 9/24/20.

Accession Number: 20200924-5114.

Comments Due: 5 p.m. ET 10/15/20.

Docket Numbers: ER20-2981-000.

Applicants: PJM Interconnection, L.L.C.

Description: Tariff Cancellation: Notice of Cancellation of ICSA, First Revised SA No. 3484; Queue No. W3-032A to be effective 11/30/2019.

Filed Date: 9/24/20.

Accession Number: 20200924-5122.

Comments Due: 5 p.m. ET 10/15/20.

Docket Numbers: ER20-2982-000.

Applicants: PJM Interconnection, L.L.C.

Description: Tariff Cancellation: Notice of Cancellation of ICSA, SA No. 2781; Queue No. NQ44 to be effective 6/7/2012.

Filed Date: 9/24/20.

Accession Number: 20200924-5142.

Comments Due: 5 p.m. ET 10/15/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 24, 2020.
Kimberly D. Bose,
Secretary.

[FR Doc. 2020-21602 Filed 9-29-20; 8:45 am]

BILLING CODE 6717-01-P